DEPARTMENT OF THE INTERIOR

Bureau of Land Management

[OR-014-6350-DS; GP-2-0236]

Notice of availability for the Draft Upper Klamath River Management Plan/ Environmental Impact Statement and Resource Management Plan Amendments

ACTION: Notice of availability for the Draft Upper Klamath River Management Plan/ Environmental Impact Statement and Resource Management Plan Amendments (River Plan/DEIS).

SUMMARY: In accordance with the Federal Land Policy and Management Act and the National Environmental Policy Act (NEPA), this document provides notice that the Bureau of Land Management (BLM) intends to make the River Plan/DEIS available for public review and comment. This plan encompasses portions of the upper Klamath River in southern Oregon and northern California. This plan will provide direction for management of the public lands within the planning area for at least 15 to 20 years after the plan is completed. A decision on this DEIS will be signed by the State Directors of Oregon/Washington and California, and will amend both the BLM Klamath Falls Resource Area (Oregon), and the Redding (California) Resource Management Plans.

The Wild and Scenic Rivers Act requires a management plan be completed for a designated wild and scenic river, and State Scenic Waterway. Within Oregon, the State of Oregon designated an 11-mile segment of the Klamath River a State Scenic Waterway in 1988. In addition, at the request of the Governor of Oregon, the Klamath River was designated as a Scenic River (part of the Wild and Scenic Rivers system), by the Secretary of the Interior in 1994. In California, the segment of the Klamath River within the planning area was determined to be eligible for inclusion as a scenic river under the Wild and Scenic River Act, and is currently under interim protective management until a designation decision is made. This plan considers management of land both within and adjacent to the scenic river corridor. The plan is being developed jointly by the BLM Lakeview District (Klamath Falls Resource Area), Oregon, and the Redding Resource Area, California. The Oregon Parks and Recreation Department is a cooperating agency in the development of this DEIS and has developed proposed administrative rules in the river management plan for private lands that occur within the State Scenic Waterway.

The BLM has coordinated closely with numerous interested parties to identify the various management actions and alternatives that are best suited to the needs of the resources and has considered the input from the public. This notice initiates the public review process on the River Plan/DEIS. The public is invited to review and comment on the range and adequacy of the draft alternatives and associated environmental effects.

DATES: The comment period will end 90 days after publication of the Environmental Protection Agency's Notice of Availability of this River Management Plan and Draft Environmental Impact Statement in the Federal Register. All individuals, organizations, agencies, and tribes with a known interest in this planning effort have been offered a copy of the document for review. Documents may also be examined at the Klamath Falls Resource Area office, 2795 Anderson Avenue, Building 25, Klamath Falls, Oregon, 97603, at local libraries, and on the Web site: http://www.or.blm.gov/Lakeview/kfra/index.htm.

Public Participation

Public meetings will be held during the comment period. In order to ensure local community participation and input, public meetings will be held in Klamath Falls, Oregon, Yreka, California, and Copco, California. Specific dates and locations of meetings and comment deadlines will be announced through the local news media, newsletters and the BLM web site. At least 15 days public notice will be given for activities where the public is invited to attend.

Comments on the River Plan/DEIS should be received on or before the end of the comment period at the address listed below. For comments to be most helpful, they should relate to specific concerns or conflicts that can be addressed by the BLM. These concerns must also be able to be resolved through this planning process. Comments, including names and street addresses of respondents, will be available for public review at the above address during regular business hours (8 a.m. to 5 p.m.), Monday through Friday, except holidays, and may be published as part of the EIS, or other related documents. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

ADDRESSES FOR COMMENTS: Written comments should be sent to Teresa A. Raml, Field Manager, Bureau of Land Management, 2795 Anderson Ave., Building 25, Klamath Falls, Oregon 97603. Comments may also be e-mailed to: krmp@or.blm.gov.

FOR FURTHER INFORMATION CONTACT: For further information and/or to have your name added to our mailing list, contact Larry Frazier, Project Leader (541-883-6916), or email your request to: krmp@or.blm.gov.

SUPPLEMENTARY INFORMATION: The total planning area encompasses approximately 20,000 acres of land in Oregon and California. At the written request of PacifiCorp, the major private landowner within the river corridor, approximately 6,000 acres of their private lands, primarily located within the California portion of the planning area, have been considered in this plan. PacifiCorp is considering several management options for the lands that are surplus to their needs for power production. Among these options are a long-term cooperative management agreement with BLM, and sale or other form of disposal of their lands.The River Plan/DEIS considers and analyzes four alternatives including the No Action alternative. These alternatives have been developed based on public input during and following initial scoping, and numerous meetings with local governments, tribes and the Upper Basin Subcommittee of the Klamath Provincial Advisory Committee (Klamath PAC). The alternatives provide for variable levels of maintenance or enhancement of resource values and propose a wide array of alternative land management actions. The “Preferred” Alternative proposes actions to enhance the values identified in the Wild and Scenic River designation and restore natural resources that are in a degraded condition, while minimizing resource management conflicts with recreation use. A final environmental impact statement and proposed Klamath River Management Plan is expected to be available for public review in mid-2003.

Dated: May 5, 2003.
Teresa A. Raml,
Field Manager, Klamath Falls Resource Area.

[FR Doc. 03-11630 Filed 5-15-03; 8:45 am]

BILLING CODE 4310-33-P